PATENT AND TRADEMARK OFFICE

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Patent and Trademark Financial Transactions.

Form Number(s): PTO-2038, PTO-2231, PTO-2232, PTO-2233, PTO-2234, PTO-2236.

Agency Approval Number: 0651-0043.

Type of Request: Revision of a currently approved collection.

Burden: 58,166 hours annually, including 50 hours per year for Financial Profiles.

Number of Respondents: 1,929,205 responses per year, including 500 responses per year for Financial Profiles.

Avg. Hours per Response: The USPTO estimates that it will take the public approximately two to four minutes (0.03 to 0.07 hours) to prepare and submit the existing items in this collection. The USPTO estimates that it will take the public approximately six minutes (0.10 hours) to complete and submit a Financial Profile.

Needs and Uses: Under 35 U.S.C. 41 and 15 U.S.C. 1113, as implemented in 37 CFR 1.16-1.28, 2.6-2.7, and 2.206-2.209, the USPTO charges fees for processing and other services related to patents, trademarks, and information products. Customers may submit payments to the USPTO by several methods, including credit card, deposit account, electronic funds transfer (EFT), and paper check transactions. The public uses this collection to pay patent and trademark fees by credit card, to establish and manage USPTO deposit accounts, to set up a user profile for EFT transactions, and to request refunds. The USPTO is developing a pilot program that will allow customers to access and manage their financial activity online by creating a Financial Profile through the USPTO Web site. The Financial Profiles are being added to this collection.

Affected Public: Individuals or households, businesses or other for-profits, and not-for-profit institutions.

Frequency: On occasion.

Respondent's Obligation: Required to obtain or retain benefits.

OMB Desk Officer: David Rostker, (202) 395-3897.

Copies of the above information collection proposal can be obtained by any of the following methods:

• E-mail: Susan.Fawcett@uspto.gov. Include “0651-0043 copy request” in the subject line of the message.

• Fax: 571-273-0112, marked to the attention of Susan Fawcett.

• Mail: Susan K. Fawcett, Records Officer, Office of the Chief Information Officer, Customer Information Services Group, Public Information Services Division, U.S. Patent and Trademark Office, P.O. Box 1450, Alexandria, VA 22313-1450.

Written comments and recommendations for the proposed information collection should be sent on or before August 27, 2007 to David Rostker, OMB Desk Officer, Room 10202, New Executive Office Building, 725 17th Street, NW., Washington, DC 20503.

Dated: July 20, 2007.
Susan K. Fawcett,
Records Officer, USPTO, Office of the Chief Information Officer, Customer Information Services Group, Public Information Services Division.

[FR Doc. E7-14542 Filed 7-26-07; 8:45 am]

BILLING CODE 3510-16-P